ENVIRONMENTAL PROTECTION AGENCY

[FRL-6572-2]

Proposed CERCLA Administrative Cost Recovery Settlement for the C&J Disposal Superfund Site, Town of Eaton, Madison County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given of a proposed administrative settlement, entered into pursuant to section 122(h) of CERCLA, 42 U.S.C. 9622(h), for recovery of past response costs concerning the C & J Disposal Superfund Site (“Site”) located in the Town of Eaton, Madison County, New York, with the following settling parties: Estate of Charles Picariello, Geneso (a/k/a James) Picariello, C & J Leasing Company and The Birge Company. The settlement requires the settling parties to pay $90,000.00 to the EPA Hazardous Substance Superfund in reimbursement of past response costs incurred with respect to the Site. The settlement includes a covenant not to sue the settling party pursuant to Section 107(a) of CERCLA, 42 U.S.C. 9607(a), for all costs incurred at or in connection with the Site by the United States through the effective date of the settlement agreement. For thirty (30) days following the date of publication of this document, the U.S. Environmental Protection Agency (“EPA” or “Agency”) will receive written comments relating to the settlement. The Agency will consider all comments received and may modify or withdraw its consent to the settlement if comments received disclose facts or considerations that indicate that the proposed settlement is inappropriate, improper or inadequate. The Agency's response to any comments received will be available for public inspection at the EPA, Region II, 290 Broadway, New York, New York 10007-1866.

DATES: Comments must be submitted on or before May 8, 2000.

ADDRESSES: The proposed settlement is available for public inspection at the EPA, 290 Broadway, New York, New York 10007-1866. A copy of the proposed settlement may be obtained from Lee A. Speilmann, Assistant Regional Counsel, New York/Caribbean Superfund Branch, Office of Regional Counsel, 17th Floor, 290 Broadway, New York, New York 10007-1866. Comments should reference the C & J Disposal Superfund Site located in Eaton, New York, Docket No. CERCLA-02-99-2005, and should be addressed to Lee A. Spielmann, Assistant Regional Counsel, Office of Regional Counsel, U.S. Environmental Protection Agency, 290 Broadway, 17th floor, New York, New York 10007-1866.

FOR FURTHER INFORMATION CONTACT: Lee A. Spielmann, Assistant Regional Counsel, New York/Caribbean Superfund Branch, Office of Regional Counsel, U.S. Environmental Protection Agency, 17th Floor, 290 Broadway, New York, New York 10007-1866. Telephone: 212-637-3222.

Dated: March 27, 2000.
William J. Muszynski,
Regional Administrator, Region 2.

[FR Doc. 00-8532 Filed 4-5-00; 8:45 am]

BILLING CODE 6560-50-M